ENVIRONMENTAL PROTECTION AGENCY

[ER-FRL-6679-8]

Environmental Impact Statements; Notice of Availability

Responsible Agency: Office of Federal Activities, General Information (202) 564-7167 or http://www.epa.gov/compliance/nepa/.

Weekly receipt of Environmental Impact Statements

Filed 09/25/2006 through 09/29/2006

Pursuant to 40 CFR 1506.9.

EIS No. 20060394, Final EIS, BIA, CA, Elk Valley Rancheria Martin Ranch 203.5—Acre Fee-to-Trust Transfer and Casino/Resort Project, Implementation, Federal Trust, Elk Valley Rancheria Tribe, Crescent City, Del Norte County, CA, Wait Period Ends: 11/06/2006, Contact: John Rydzik 916-978-6042.

EIS No. 20060395, Draft EIS, FRC, 00, Klamath Hydroelectric Project, Continued Operation for Hydropower License FERC No. 2082-27, Klamath River, Klamath County, OR and Siskiyou County, CA, Comment Period Ends: 11/24/2006, Contact: John Mudre 202-502-8902.

EIS No. 20060396, Final EIS, NPS, WY, Grand Teton National Park Transportation Plan, Implementation, Grand Teton National Park, Teton County, WY, Wait Period Ends: 11/06/2006, Contact: Mary Gibson Scott 307-739-3410.

EIS No. 20060397, Final EIS, NAS, 00, Programmatic—Development of Advanced Radioisotope Power Systems, Two New Advanced RPS's: Multi-Mission Radioisotope Thermoelectric Generator (MMRTG) and Stirling Radioisotope Generator (SRG), Wait Period Ends: 11/06/2006, Contact: Kenneth M. Kumor 202-358-1112.

EIS No. 20060398, Final EIS, AFS, UT, Upper Strawberry Allotments Grazing, Authorize Liverstock Grazing, Heber Ranger District, Uinta National Forest, Wasatch County, UT, Wait Period Ends: 11/06/2006, Contact: Pam Jarnecke 775-635-4144.

EIS No. 20060399, Draft EIS, USA, VA, Fort Lee, Virginia and Fort A. P. Hill, Virginia Project, Implementation of Base Closure and Realignment (BRAC) Recommendations and Other Army Actions, Prince George County, Petersburg, Virginia Hopewell, Virginia; Caroline County, Essex County, VA, Comment Period Ends: 11/20/2006Contact: Karen Wilson 703-602-2861.

EIS No. 20060400, Draft EIS, USA, TX, Fort Sam Houston, Texas Project, Base Realignment and Closure (BRAC) Actions and Other Transformation Activities, Implementation, City of Sam Antonio, TX, Comment Period Ends: 11/20/2006, Contact: Karen Wilson 703-602-2861.

EIS No. 20060401, Draft EIS, FRC, CA, Oroville Facilities Project, Issuing an New Federal License to Continue Hydroelectric Power (FERC No. 2100), Feather River, Sierra Nevada, Butte County, CA, Comment Period Ends: 11/20/2006, Contact: James Fargo 202-502-6095.

EIS No. 20060402, Draft EIS, NOA, CA, Cordell Bank, Gulf of the Farallones and Monterey Bay National Marine Sanctuaries, Proposes a Series of Regulatory Changes, Offshore of Northern/Central, CA, Comment Period Ends: 01/06/2007, Contact: Brady Phillips 301-713-3125 Ext. 264.

EIS No. 20060403, Final EIS, AFS, CA, Freeman Project, Reduce Hazardous Fuel and Improving Forest Health, Implementation, Lake Recreation Area, Beckworth Ranger District, Plumas National Forest, Plumas County, CA, Wait Period Ends: 11/06/2006, Contact: Sabrina Stalder 530-836-7141.

EIS No. 20060404, Final EIS, SFW, AK, Kodiak National Wildlife Refuge, Draft Revised Comprehensive Conservation Plan, Implementation, AK, Wait Period Ends: 11/06/2006, Contact: Mikel R. Haase 907-786-3402.

EIS No. 20060405, Final EIS, CGD, 00, Programmatic—Implementation of the U.S. Coast Guard Nationwide Automatic Identification System Project, Providing Vessel Identification, Tracking and Information Exchange Capabilities to Support National Maritime Interests, Wait Period Ends: 11/06/2006, Contact: Keith Ingalsbe 202-475-3120.

Amended Notices

EIS No. 20060325, Draft EIS, FRC, ID, Hells Canyon Hydroelectric Project, Application for Relicensing to Authorize the Continued Operation of Hydroelectric Project, Snake River, Washington and Adams Counties, ID and Wallowa and Baker Counties, OR, Comment Period Ends: 11/03/2006, Contact: Todd Sedmak 1-866-208-FERC

Revision of FR Notice of Published on 08/04/2006: Extending Comment Period from 10/02/2006 to 11/03/2006.

Dated: October 3, 2006.
Robert W. Hargrove,
Director, NEPA Compliance Division, Office of Federal Activities.

[FR Doc. E6-16568 Filed 10-5-06; 8:45 am]

BILLING CODE 6560-50-P